DEPARTMENT OF COMMERCE

International Trade Administration

[C-475-825]

Stainless Steel Sheet and Strip in Coils From Italy; Extension of Time Limit for the Preliminary Results of Sunset Review of Countervailing Duty Order

AGENCY: Import Administration, International Trade Administration, Department of Commerce.

ACTION: Notice of extension of time limit for the preliminary results of sunset review of countervailing duty order: stainless steel sheet and strip in coils from Italy.

SUMMARY: The Department of Commerce (“the Department”) is extending the time limit for its preliminary results in the sunset review of the countervailing duty order on stainless steel sheet and strip in coils (“SSSS”) from Italy. The Department intends to issue the final results of this sunset reviews on or about November 22, 2004.

DATES: Effective Date: October 28, 2004.

FOR FURTHER INFORMATION CONTACT: Hilary Sadler, Esq., Import Administration, International Trade Administration, U.S. Department of Commerce, 14th Street & Constitution Avenue, NW., Washington, DC 20230; telephone: (202) 482-4340.

Extension of Final Results of Reviews

On June 1, 2004, the Department initiated a sunset review of the countervailing duty order on SSSS from Italy. See Initiation of Five-Year (Sunset) Reviews, 69 FR 30874 (June 1, 2004). The Department, in this proceeding, determined that it would conduct a full sunset review of this order based on adequate responses to the notice of initiation from domestic and respondent interested parties. The Department's preliminary results of this review were originally scheduled for September 20, 2004 and were extended on September 20, 2004. The Department, however, needs additional time to consider issues related to the appropriate countervailing duty rate likely to prevail if the order is revoked which the Department will provide to the International Trade Commission. Thus, the Department intends to issue the preliminary results on or about November 22, 2004, in accordance with sections 751(c)(5)(B) and 751(c)(5)(C)(ii) of the Tariff Act of 1930, as amended.

Dated: October 15, 2004.
Jeffrey A. May,
Acting Assistant Secretary for Import Administration.

[FR Doc. 04-24151 Filed 10-27-04; 8:45 am]

BILLING CODE 3510-DS-M